DEPARTMENT OF COMMERCE

National Oceanic and Atmospheric Administration

[RTID 0648-XC386]

Gulf of Mexico Fishery Management Council; Public Meeting

AGENCY: National Marine Fisheries Service (NMFS), National Oceanic and Atmospheric Administration (NOAA), Commerce.

ACTION: Notice of a public meeting.

SUMMARY: The Gulf of Mexico and South Atlantic Fishery Management Councils (Councils) will hold a one-day hybrid (in-person/virtual) meeting of its Joint Council Workgroup for Section 102 of the Modernizing Recreational Fisheries Management Act of 2018.

DATES: The meeting will take place Wednesday, October 12, 2022, from 9:30 a.m. to 4 p.m., EST.

ADDRESSES: The in-person meeting will take place at the Gulf Council office. Registration information will be available on the Council's website by visiting www.gulfcouncil.org and clicking on the Joint Workgroup meeting on the calendar.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Wednesday, October 12, 2022; 9:30 a.m.-4 p.m., EST

The meeting will begin with Introductions, Adoption of Agenda, Approval of Minutes from the September 10, 2020 meeting, and a presentation and discussion on the Future Vision for Federal Managed Recreational Fisheries.

The Joint Workgroup will receive a summary from the South Atlantic Fishery Management Council's Workgroup on Federal Reef Fish Permits, followed by a review of the National Saltwater Recreational Fisheries Policy and the March 2022 Recreational Fisheries Summit Recap and Workgroup Goals. The Joint Workgroup will then receive a presentation titled: How are the Councils Doing, with respect to implementing alternative recreational fisheries management strategies, followed by making recommendations to the Councils for Alternative Recreational Fisheries Management Strategies.

Lastly, the Joint Workgroup will receive Public Comment and discuss any Other Business items.

—Meeting Adjourns

The meeting will also be broadcast via webinar. You may register for the webinar by visiting www.gulfcouncil.org and clicking on the Joint Workgroup meeting on the calendar. The Agenda is subject to change, and the latest version along with other meeting materials will be posted on www.gulfcouncil.org as they become available.

Special Accommodations

The meeting is physically accessible to people with disabilities. Requests for sign language interpretation or other auxiliary aid should be directed to Kathy Pereira, (813) 348-1630, at least 5 days prior to the meeting date.

Authority: 16 U.S.C. 1801 et seq.

Dated: September 15, 2022.
Rey Israel Marquez,
Acting Deputy Director, Office of Sustainable Fisheries, National Marine Fisheries Service.

[FR Doc. 2022-20323 Filed 9-19-22; 8:45 am]

BILLING CODE 3510-22-P